INTERNATIONAL TRADE COMMISSION

[Investigation No. 332-468]

Economywide Simulation Modeling: Technical Analysis of the Doha Round

AGENCY: United States International Trade Commission.

ACTION: Institution of investigation.

DATES: Effective Date: June 24, 2005.

SUMMARY: Following receipt on May 25, 2005 of a request from the United States Trade Representative (USTR) under section 332(g) of the Tariff Act of 1930 (19 U.S.C. 1332 (g)), the Commission instituted investigation No. 332-468, Economywide Simulation Modeling: Technical Analysis of the Doha Round.

FOR FURTHER INFORMATION CONTACT: Project manager William Donnelly (202-205-3225 or william.donnelly@usitc.gov) Office of Economics, or deputy project manager David Ingersoll (202-205-2218 or dave.ingersoll@usitc.gov) Office of Industries, U.S. United International Trade Commission, Washington, DC 20436. General information concerning the Commission may be obtained by accessing its Internet server (http://www.usitc.gov). For information on legal aspects of the investigation, contact William Gearhart of the Commission's Office of the General Counsel (202-205-3091 or william.gearhart@usitc.gov). The media should contact Margaret O'Laughlin, Office of Public Affairs (202-205-1819 or margaret.olaughlin@usitc.gov).

Background: As requested by the USTR, the Commission will provide an economy-wide analysis of the economic effects of selected prospective results of the World Trade Organizations (WTO) Doha Round of trade negotiations. Specifically, the Commission will provide the following in its report:

(1) Changes in production, consumption, trade, and prices that may be associated with the Doha Round, with regional and sectoral aggregations appropriate to illustrate those changes; and

(2) The trade liberalization scenarios associated with those regional and sectoral aggregations.

As requested, the Commission will provide those estimates, to the extent possible, for scenarios that reflect a range of possible outcomes with respect to market access for all products and trade-distorting domestic assistance programs and export subsidies related to agriculture, to be informed by the “July package” agreed to by the WTO's General Council on August 1, 2004.

The USTR stated that the Administration is conducting an environmental review of WTO multilateral trade negotiations known as the Doha Round and that the Commission's report would assist the Trade Policy Staff Committee (TPSC) in conducting an environmental review. For information and background on USTR environmental reviews, see http://www.ustr.gov/Trade_Sectors/Environment/Section_Index.html.

As requested, the Commission will provide its report not later than 10 months after receipt of the request, or by March 27, 2006. The USTR has directed that the Commission mark or identify as “confidential” the Commission's analytical products, as well as associated working papers in this investigation. The letter also stated that USTR considers the Commission's analytical products to be inter-agency memoranda that will contain pre-decisional advice subject to the deliberative process privilege. Accordingly, the Commission does not plan to issue a public report.

Written Submissions: The Commission does not plan to hold a public hearing in connection with the preparation of this report. However, interested persons are invited to submit written statements concerning the matters to be addressed in the report. All written submissions should be addressed to the Secretary, United States International Trade Commission, 500 E Street SW., Washington, DC 20436. To be assured of consideration by the Commission, written statements relating to the Commission's report should be submitted to the Commission at the earliest practical date and should be received no later than the close of business on November 30, 2005. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential business information (CBI) must be deleted (see the following paragraph for further information regarding CBI). The Commission's rules do not authorize filing submissions with the Secretary by facsimile or electronic means, except to the extent permitted by section 201.8 of the rules (see Handbook for Electronic Filing Procedures, ftp://ftp.usitc.gov/pub/reports/electronic_filing_handbook.pdf). Persons with questions regarding electronic filing should contact the Secretary (202-205-2000 or edis@usitc.gov).

Any submissions that contain CBI must also conform with the requirements of section 201.6 of the Commission's rules (19 CFR 201.6). Section 201.6 of the rules requires that the cover of the document and the individual pages clearly be marked as to whether they are the “confidential” or “nonconfidential” version, and that the CBI be clearly identified by means of brackets. All written submissions, except for CBI, will be made available for inspection by interested parties.

The Commission may include any CBI received in the confidential report it sends to the USTR. Should the Commission at a later date make its report available to the public, any CBI received by the Commission in this investigation will not be published in that report in a manner that would reveal the operations of the firm supplying the information.

The public record for this investigation may be viewed on the Commission's electronic docket (EDIS) at http://edis.usitc.gov. Hearing-impaired individuals are advised that information on this matter can be obtained by contacting the Commission's TDD terminal on 202-205-1810. Persons with mobility impairments who will need special assistance in gaining access to the Commission should contact the Office of the Secretary at 202-205-2000.

Issued: June 29, 2005.
By order of the Commission.
Marilyn R. Abbott,
Secretary to the Commission.

[FR Doc. 05-13234 Filed 7-5-05; 8:45 am]

BILLING CODE 7020-02-P